DEPARTMENT OF COMMERCE

Foreign-Trade Zones Board

[Docket 6-2010]

Foreign-Trade Zone 50—Long Beach, California Application for Subzone Allegro Mfg. Inc. (Cosmetic, Organizer and Electronic Bags and Accessories) Commerce, CA

An application has been submitted to the Foreign-Trade Zones Board (the Board) by the Port of Long Beach, grantee of FTZ 50, requesting special-purpose subzone status for the warehousing and distribution facility of Allegro Mfg. Inc. (Allegro), located in Commerce, California. The application was submitted pursuant to the provisions of the Foreign-Trade Zones Act, as amended (19 U.S.C. 81a-81u), and the regulations of the Board (15 CFR part 400). It was formally filed on January 15, 2010.

The Allegro facility (83 employees, 5.8 acres, 14.4 million unit annual capacity) is located at 7230, 7250 and 7265 Oxford Way, Commerce, California. The facility is used for the storage and distribution of cosmetic, organizer and electronic bags and accessories (duty rate ranges from duty-free to 20%).

FTZ procedures could exempt Allegro from customs duty payments on foreign products that are re-exported (approximately two percent of shipments). On its domestic sales, the company would be able to defer duty payments until merchandise is shipped from the plant and entered for consumption. FTZ designation would further allow Allegro to realize logistical benefits through the use of weekly customs entry procedures. The request indicates that the savings from FTZ procedures would help improve the facility's international competitiveness.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is March 29, 2010. Rebuttal comments in response to material submitted during the foregoing period may be submitted during the subsequent 15-day period to April 12, 2010.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Elizabeth Whiteman at Elizabeth.Whiteman@trade.gov or (202) 482-0473.

Dated: January 15, 2010.
Andrew McGilvray,
Executive Secretary.

[FR Doc. 2010-1632 Filed 1-26-10; 8:45 am]

BILLING CODE 3510-DS-P